DEPARTMENT OF THE INTERIOR

Bureau of Reclamation

Red River Valley Water Supply Project, ND

AGENCY: Bureau of Reclamation, Interior.

ACTION: Notice of Availability of Final Environmental Impact Statement (EIS).

SUMMARY: Pursuant to the National Environmental Policy Act (NEPA), the Bureau of Reclamation (Reclamation) is notifying the public that Reclamation and the State of North Dakota have prepared a Final EIS for the Red River Valley Water Supply Project (RRVWSP). The purpose of the RRVWSP is to supply water to meet the water needs of the people and industries in the Red River Valley through the year 2050. The project's needs were established by Congress in the Dakota Water Resources Act of 2000. The project needs are defined as municipal, rural, and industrial supplies; water quality; aquatic environment; and water conservation measures. Reclamation published a Draft EIS on December 30, 2005. Following public comments on the Draft EIS and the addition of new information, Reclamation published a Supplemental Draft EIS on January 31, 2007. The comment period for the Draft EIS started on December 30, 2005 and continued through April 25, 2007 with review of the Supplemental Draft EIS. Revisions were made to the Final EIS to incorporate responses to comments on the Supplemental Draft EIS and new information. However, these revisions do not significantly impact the analysis or results presented in the Supplemental Draft EIS. The primary changes are inclusion of a final biological assessment prepared in compliance with the Endangered Species Act, an analysis of forecasted depletions and sedimentation on the Missouri River mainstem reservoir system, and a literature review of the best available climate change information. The Final EIS includes written responses to all public comments on both the DEIS and SDEIS. It also identifies the GDU Import to Sheyenne River Alternative as Reclamation's and the State of North Dakota's preferred alternative.

DATES: Reclamation will not make a decision on the proposed action until at least 30 days after the release of the Final EIS. After the 30-day waiting period, Reclamation will complete a Record of Decision (ROD). The ROD will state the selected action for implementation and will discuss factors and rationale used in making the decision.

FOR FURTHER INFORMATION CONTACT: Ms. Signe Snortland, telephone: (701) 221-1278, or FAX to (701) 250-4326, or ssnortland@gp.usbr.gov. Additional information including a complete copy of the Public Notice, Executive Summary, Final EIS, and Appendices are available on the Red River Valley Water Supply Project Web site at http://www.rrvwsp.com.

SUPPLEMENTARY INFORMATION: The final EIS considers five action alternatives and a no action alternative. Three of the action alternatives propose to use water from the Missouri River as an additional source of project water. The DEIS evaluated two treatment methods designed to reduce the risk of invasive species transfer (basic method and microfiltration). In response to comments on the DEIS, an additional treatment method, dissolved air flotation was evaluated in the SDEIS and FEIS. All of these treatment methods would be effective in removing or inactivating a broad range of organisms, including all of the potentially invasive species evaluated in the EIS. Estimated costs for construction, operation and maintenance of the treatment plant are provided. The Final EIS is available for public inspection at the following locations:

Iowa

• Des Moines Public Library, 100 Locust Street, Des Moines, IA

Kansas

• Topeka and Shawnee County Public Library, 1515 SW 10th Street, Topeka, KS

Minnesota

• Breckenridge Public Library, 205 7th Street North, Breckenridge, MN

• East Grand Forks Library, 422 4th Street Northwest, East Grand Forks, MN

• Moorhead Public Library, 118 5th Street South, Moorhead, MN

• Perham Public Library, 225 2nd Ave. NE, Perham, MN

• Red Lake Band of Chippewa Indians, PO Box 550, Red Lake, MN

• St. Paul Public Library, 90 West 4th Street, St. Paul, MN

• Warroad City Library, 202 Main Ave. NW, Warroad, MN

• White Earth Reservation, 26246 Crane Road, White Earth, MN

Missouri

• Kansas City Public Library, 14 West 10th Street, Kansas City, MO

• Missouri River Regional Library, 214 Adams Street, Jefferson City, MO

Montana

• Bureau of Reclamation, Great Plains Regional Office, 316 N. 26th Street, Billings, MT

Nebraska

• Lincoln City Libraries, 136 South 14th Street, Lincoln, NE

North Dakota

• Alfred Dickey Public Library, 105 3rd Street SE, Jamestown, ND

• Bureau of Indian Affairs, Turtle Mountain Agency, PO Box 60, Highway 5 West, Belcourt, ND

• Bureau of Indian Affairs, Fort Berthold Agency, 202 Main Street, New Town, ND

• Bureau of Indian Affairs, Fort Totten Agency, PO Box 270/Main Street, Fort Totten, ND

• Bureau of Reclamation, Dakotas Area Office, 304 E. Broadway Ave., Bismarck, ND

• Fargo Public Library, 102 3rd Street North, Fargo, ND

• Garrison Diversion Conservancy District, 401 Highway 281 NE, Carrington, ND

• Grand Forks Public Library, 2110 Library Circle, Grand Forks, ND

• Leach Public Library, 417 2nd Ave. North, Wahpeton, ND

• North Dakota State Library, 603 East Blvd. Ave., Bismarck, ND

• Standing Rock Administrative Service Center, Bldg. #1, North Standing Rock Avenue, Fort Yates, ND

• West Fargo Public Library, 109 3rd Street East, West Fargo, ND

South Dakota

• Bureau of Indian Affairs, Sisseton Agency, Veterans Memorial D, Agency Village, SD

• South Dakota State Library, 800 Governors Drive, Pierre, SD

Province of Manitoba

• Millennium Library, 251 Donald Street, Winnipeg, Manitoba, Canada

Province of Ontario

• Kenora Branch Library, 24 Main Street South, Kenora, Ontario, Canada

Dated: December 10, 2007.
Michael J. Ryan,
Regional Director, Great Plains Region.

[FR Doc. E7-24590 Filed 12-20-07; 8:45 am]

BILLING CODE 4310-MN-P